COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: March 1, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

On 12/27/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 332—Peeler, Corn.

Mandatory Source of Supply: Cincinnati Association for the Blind, Cincinnati, OH

Contracting Activity: Military Resale-Defense Commissary Agency

NSN(s)—Product Name(s):

7530-00-926-2122—Folder, File

7530-00-926-2123—Folder, File

Mandatory Source of Supply: Clovernook Center for the Blind and Visually Impaired, Cincinnati, OH

Contracting Activity: Strategic Acquisition Center, Fredericksburg, VA

NSN(s)—Product Name(s):

6530-01-004-8969—Urinal, Incontinent

Mandatory Source of Supply: The Lighthouse for the Blind, St. Louis, MO.

Contracting Activity: Strategic Acquisition Center, Fredericksburg, VA

NSN(s)—Product Name(s):

MR 10694—Berry Box, Includes Shipper 20694

Mandatory Source of Supply: Winston-Salem Industries for the Blind, Inc., Winston-Salem, NC

Contracting Activity: Military Resale-Defense Commissary Agency

NSN(s)—Product Name(s):

7930-00-NIB-0579—Disinfectant PD-128 Cleaner, Intermediate, Broad Spectrum, Concentrated

8125-00-NIB-0032—Spray Bottle, PD-128 Disinfectant Cleaner, 32 oz. Bottle.

Mandatory Source of Supply: VisionCorps, Lancaster, PA

Contracting Activity: Strategic Acquisition Center, Fredericksburg, VA

Services

Service Type: Janitorial/Custodial

Mandatory for: VA Medical Center: Salem Primary Care Clinic, Salem, OR

Mandatory Source of Supply: Garten Services, Inc., Salem, OR

Contracting Activity: Veterans Affairs, Department of, 260-Network Contract Office 20

Service Type: Janitorial/Custodial

Mandatory for: Social Security Administration Complex: 5536 Caswell Road, Roth Building, Baltimore, MD

Mandatory Source of Supply: Sinai Hospital of Baltimore (Vocational Services Program), Baltimore, MD

Contracting Activity: Social Security Administration, Social Security Administration

Service Type: Duplicating/Copying of Court Documents

Mandatory for: Government Printing Office: 710 North Capitol & H Street NW, Washington, DC

Mandatory Source of Supply: Alliance, Inc., Baltimore, MD

Contracting Activity: Government Printing Office

Service Type: Cutting and Assembly

Mandatory for: Robins Air Force Base, Robins AFB, GA

Mandatory Source of Supply: Middle Georgia Diversified Industries, Inc., Dublin, GA

Contracting Activity: Defense Logistics Agency, DLA Aviation

Patricia Briscoe,
Deputy Director, Business Operations (Pricing and Information Management).

[FR Doc. 2020-01808 Filed 1-30-20; 8:45 am]

BILLING CODE 6353-01-P